AGENCY FOR INTERNATIONAL DEVELOPMENT

Food Security Advisory Committee Board of International Food and Agricultural Development First Meeting; Notice of Meeting

Pursuant to the Federal Advisory Committee Act, notice is hereby given of the first meeting of the Food Security Advisory Committee (FSAC), an independent subcommittee of the Board for International Food and Agricultural Development (BIFAD). The meeting will be held from 8:30 a.m. to 4:30 p.m. on September 27, 2000 in the first floor conference room at the National Association of State Universities and Land Grant Colleges (NASULGC), located at 1307 New York Avenue, NW., Washington, DC.

As part of the agenda, FSAC will review progress made towards implementing the U.S. Food Security Plan of Action and meeting World Food Summit commitments, examine emerging issues that have a direct bearing on food security, and address the need to forge and strengthen the U.S. constituency for food security.

Those wishing to attend the meeting or to obtain additional information about BIFAD should contact Ms. Jennifer J. Douglas, the Designated Federal Officer for FSAC. Write her in care of the U.S. Agency for International Development, Ronald Reagan Building, Office of Agriculture and Food Security, 1300 Pennsylvania Avenue, NW., Room 2.11-061, Washington, DC 20523-2110 or telephone her at (202)-712-1687 or fax (202-216-3060).

Jennifer Douglas,
USAID Designated Federal Officer for FSAC, Office of Agriculture and Food Security, Economic Growth Center, Bureau for Global Programs.

[FR Doc. 00-24347 Filed 9-21-00; 8:45 am]

BILLING CODE 6116-01-M